DEPARTMENT OF TRANSPORTATION

Federal Aviation Administration

Twentieth Meeting: RTCA Special Committee (225) Rechargeable Lithium Battery and Battery Systems

AGENCY: Federal Aviation Administration (FAA), U.S. Department of Transportation (DOT).

ACTION: Notice of Twentieth RTCA Special Committee 225 Meeting.

SUMMARY: The FAA is issuing this notice to advise the public of the Twentieth RTCA Special Committee 225 meeting.

DATES: The meeting will be held November 3rd from 9 a.m.-1 p.m.

ADDRESSES: This is a WebEx Meeting. For in-person attendees, the meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 225. The agenda will include the following:

Tuesday, October 27, 2015

1. Introductions and administrative items (including DFO & RTCA Statement) (5 min)

2. Review agenda (1 min)

3. Review and approve summary from the last Plenary (5 min)

4. Review PMC rejection of DO-311A (5 min)

5. Review DO-311A recovery plan (10 min)

6. Review PMC Ad Hoc Committee Guidance & SC-225 response (30 min)

7. Adjourn to working group until 12:45

8. Tasks to accomplish:

a. Initial discussion on draft of reformatted document (need categories to finish discussion)

b. Begin Category discussion

9. Review Plenary action items (1 min)

10. Establish Agenda for next Plenary (14 min)

11. Adjourn

Attendance is open to the interested public but limited to space availability. With the approval of the chairman, members of the public may present oral statements at the meeting. This Plenary will be a WebEx meeting—WebEx information will be provided upon request. For those wishing to attend in person at RTCA, a room will be reserved. Persons wishing to present statements or obtain information should contact the person listed in the FOR FURTHER INFORMATION CONTACT section. Members of the public may present a written statement to the committee at any time.

Issued in Washington, DC, on October 8, 2015.
Latasha Robinson,
Management & Program Analyst, Next Generation, Enterprise Support Services Division, Federal Aviation Administration.

[FR Doc. 2015-26006 Filed 10-9-15; 8:45 am]

BILLING CODE 4910-13-P